DEPARTMENT OF HEALTH AND HUMAN SERVICES

Office of the Secretary

Agency Information Collection Activities: Submission to OMB Review; Comment Request

The Department of Health and Human Services, Office of the Secretary publishes a list of information collections it has submitted to the Office of Management and Budget (OMB) for clearance in compliance with the Paperwork Reduction Act of 1995 (44 U.S.C. Chapter 35) and 5 CFR 1320.5. The following are those information collections recently submitted to OMB.

1. Organizing an Institutional Investigation Assistance Program: A Feasibility Study—NEW—A review group charged with examining the Office of Research Integrity's (ORI) role in handling allegations of research misconduct developed numerous recommendations. One of the recommendations stated that “HHS should encourage the development of a consortium-based approach to be used by awardee institutions that do not have the capacity to conduct the fact-finding process, or at which there is otherwise inadequate institutional or organizational capacity.” The Office of Research Integrity is proposing a survey of research institutions, educational institutions, and related organizations to assess the level of interest in the development of consortia.

Respondents: Businesses or other for-profit; Non-profit institutions; State or local governments; Number of Respondents: 1,000; Burden per Response: 20 minutes; Total Burden: 333 hours. OMB Desk Officer: Allison Herron Eydt.

Copies of the information collection packages listed above can be obtained by calling the OS Reports Clearance Officer on (202) 690-6207. Written comments and recommendations for the proposed information collection should be sent directly to the OMB desk officer designated above at the following address: Human Resources and Housing Branch, Office of Management and Budget, New Executive Office Building, Room 10235, 725 17th Street NW., Washington, DC 20503.

Comments may also be sent to Cynthia Agens Bauer, OS Reports Clearance Officer, Room 503H, Humphrey Building, 200 Independence Avenue SW., Washington, DC 20201. Written comments should be received within 30 days of this notice.

Dated: May 21, 2001.
Kerry Weems,
Acting Deputy Assistant Secretary, Budget.

[FR Doc. 01-13386 Filed 5-25-01; 8:45 am]

BILLING CODE 4150-31-M